DEPARTMENT OF ENERGY

Amended Record of Decision; Savannah River Site Waste Management, Savannah River Operations Office, Aiken, South Carolina

AGENCY: Department of Energy.

ACTION: Amended Record of Decision.

SUMMARY: This Record of Decision (ROD) modifies earlier Department of Energy (DOE) decisions concerning the treatment and disposal of low-level radioactive waste (LLW) and mixed hazardous and low-level radioactive waste (MLLW) at the Savannah River Site (SRS) to be consistent with DOE's subsequent programmatic decision. DOE Orders and policy require DOE to use its own facilities for treatment and disposal; however, an exemption may be granted, if this is not practical. Because of (1) SRS inability to meet state requirements for a MLLW disposal facility, (2) funding reductions for waste treatment facilities, and (3) the apparent adequacy of existing and planned capacity at either DOE regional or commercial treatment and disposal facilities, DOE has decided to: continue to treat some SRS LLW onsite or, if an exemption is granted, at commercial treatment facilities, as previously decided; continue to dispose of SRS LLW and treatment residuals onsite, as previously decided, and, in addition, dispose of some SRS LLW and treatment residuals at DOE regional or, if an exemption is granted, at commercial disposal facilities; continue to treat some SRS MLLW onsite or, if an exemption is granted, at commercial treatment facilities, as previously decided, and, in addition, treat some SRS MLLW at other DOE regional treatment facilities; and dispose of treated SRS MLLW and treatment residuals at DOE regional or, if an exemption is granted, at commercial disposal facilities, not onsite, as previously decided. This decision is consistent with agreements between DOE and the State of South Carolina concerning MLLW management under the Federal Facility Compliance Act (FFCAct) of 1992.

FOR FURTHER INFORMATION CONTACT: For further information regarding SRS waste management, contact: Andrew R. Grainger, NEPA Compliance Officer, U.S. Department of Energy, Savannah River Operations Office, Building 742-A/Room 185, Aiken, SC 29808, (800) 881-7292. Electronic mail: drew.grainger@srs.gov.

For further information on DOE's Waste Management Programmatic Environmental Impact Statement (WM PEIS) or its RODs, contact: Karen Guevara, WM PEIS Program Manager, U.S. Department of Energy, Office of Environmental Management, 19901 Germantown Road, Germantown, MD 20874, (301) 903-4981.

For general information on the U.S. Department of Energy National Environmental Policy Act (NEPA) process, contact: Carol M. Borgstrom, Director, Office of NEPA Policy and Compliance (EH-42), U.S. Department of Energy, 1000 Independence Avenue, SW, Washington, DC 20585-0119, (202) 586-4600, or leave a message at (800) 472-2756.

SUPPLEMENTARY INFORMATION:

Background

SRS occupies approximately 300 square miles adjacent to the Savannah River, principally in Aiken and Barnwell Counties of South Carolina, about 25 miles southeast of Augusta, Georgia, and about 20 miles south of Aiken, South Carolina. DOE's primary mission at SRS from the 1950s until the recent end of the Cold War was the production and processing of nuclear materials to support defense programs. The end of the Cold War has led to a reduction in the size of the United States nuclear arsenal. Many of the facilities that were used to manufacture, assemble, and maintain the arsenal are no longer needed. Some of these facilities can be converted to new uses after decontamination; others must be decommissioned. Some facilities continue to operate to stabilize and prepare nuclear materials for disposition, and new facilities may be required for material disposition. Wastes generated must be managed in a safe and cost-effective manner. In addition, DOE must continue to comply with applicable environmental requirements in managing wastes that may be generated in the future.

In July 1995, DOE issued the SRS Waste Management Environmental Impact Statement (WMEIS) to evaluate the potential environmental impacts and costs of storing, treating, and/or disposing of certain SRS wastes. In an October 1995 ROD (60 FR 55249; October 30, 1995), DOE announced its intention to implement the “Moderate Treatment Configuration Alternative.” The ROD announced offsite treatment of some SRS LLW and MLLW, and stated that, for waste treated offsite, the treated waste and residuals for both LLW and MLLW would be returned to SRS for onsite storage or disposal.

The radioactive component of MLLW is regulated under the Atomic Energy Act and the hazardous component under the Resource Conservation and Recovery Act, as amended by the FFCAct of 1992. The FFCAct required DOE to prepare Site Treatment Plans (STPs) that identified treatment for mixed waste, including MLLW, for each DOE site that stores and/or generates mixed waste. For SRS, DOE developed a STP that the State of South Carolina reviewed and subsequently approved on September 20, 1995, and DOE and the State executed a Consent Order on September 29, 1995, specifying implementation requirements for the approved STP. The SRS WMEIS evaluated the potential environmental impacts of treatment options identified in the STP, but due to the simultaneous development of the WMEIS, STP and Consent Order, the October 1995 ROD made few MLLW decisions.

In May 1997, DOE issued a supplemental ROD (62 FR 27241; May 19, 1997) that announced DOE's decision on treatment of MLLW, consistent with the STP and Consent Order between DOE and the State of South Carolina under the FFCAct. The May 1997 supplemental ROD also stated that the residuals of MLLW shipped offsite for treatment would be returned to SRS for storage or disposal.

In May 1997, DOE also issued the Waste Management Programmatic EIS (WM PEIS) (DOE/EIS-0200), which studied the potential nationwide impacts of managing four types of radioactive waste (i.e., LLW, MLLW, transuranic waste, and high-level waste) and non-wastewater hazardous waste generated by defense and research activities at 54 sites around the United States. The WM PEIS analyzed the potential environmental impacts of alternatives for treatment, storage, and disposal of wastes for DOE's waste management program. WM PEIS analyses include evaluating potential impacts associated with transporting wastes by truck and by rail.

Based on the WM PEIS, DOE issued a ROD (65 FR 10061; February 25, 2000) for the treatment and disposal of LLW and MLLW, which is described below. Current DOE Orders and policy require treatment and disposal of LLW and MLLW to be at DOE sites. If this is not practical, an exemption to this requirement may be requested through the DOE Order process. The WM PEIS ROD does not preclude DOE's use of commercial facilities for LLW and MLLW treatment or disposal, should such an exemption be granted.

For treatment of LLW, DOE decided that each site will perform at least minimum treatment on its own LLW, although each site may perform additional treatment as would be useful to decrease overall costs.

For disposal of LLW, DOE decided to establish regional LLW disposal facilities at the Hanford Site and Nevada Test Site (NTS), which will each dispose of its own LLW onsite, and also will receive and dispose of LLW that meets its waste acceptance criteria and is generated and shipped (by either truck or rail) by other DOE sites. In addition, DOE will continue, to the extent practicable, to dispose onsite LLW that is generated at the Idaho National Engineering and Environmental Laboratory (INEEL), Los Alamos National Laboratory, Oak Ridge Reservation (ORR), and SRS. INEEL and SRS also will continue to dispose of LLW generated by the Naval Nuclear Propulsion Program.

For MLLW treatment, DOE decided to conduct regional MLLW treatment at the Hanford Site, INEEL, ORR, and SRS, or onsite at other DOE generator sites, as would be consistent with current STPs.

For MLLW disposal, DOE decided to establish regional MLLW disposal operations at the Hanford Site and Nevada Test Site, which will each dispose of its own MLLW onsite and will receive and dispose of MLLW generated and shipped (by truck or rail) by other sites, consistent with permit conditions and other applicable requirements.

Decision

This ROD announces DOE's amended decision concerning SRS LLW and MLLW to:

• Continue to treat some SRS LLW onsite or, if an exemption to the requirement to treat at a DOE facility is granted, at commercial treatment facilities, as previously decided;

• Continue to dispose of SRS LLW and treatment residuals onsite, as previously decided, and, in addition, dispose of some SRS LLW and treatment residuals at DOE regional facilities, or, if an exemption to the requirement to use DOE facilities is granted, at commercial disposal facilities;

• Continue to treat some SRS MLLW onsite or, if an exemption to the requirement to use DOE facilities is granted, at commercial treatment facilities, as previously decided, and, in addition, treat it at other DOE regional treatment facilities; and

• Dispose of treated SRS MLLW and treatment residuals at DOE regional or, if an exemption to the requirement to use DOE facilities is granted, at commercial disposal facilities, not onsite at SRS as previously decided.

To implement this decision, DOE will undertake the following activities to further implement the environmentally preferable “Moderate Treatment Configuration Alternative” previously selected for SRS LLW and MLLW:

Onsite treatment of about 90% of SRS LLW will continue, to the extent practicable, at existing SRS facilities (e.g., the Super Compactor Facility). For certain LLW streams (about 10%), onsite treatment is not practicable. If treatment at another DOE facility is not practicable and an exemption is granted, these wastes will be sent to an offsite commercial treatment facility (e.g., liquid LLW to Diversified Scientific Services, Inc., a commercial facility in Oak Ridge, Tennessee). Onsite disposal of about 90% of SRS LLW will continue, to the extent practicable, at existing SRS facilities (e.g., the Low Activity Waste Vaults and Intermediate Level Vaults). For certain LLW streams (about 10%), onsite disposal is not practicable. These wastes will be sent to a DOE regional disposal facility (i.e., Hanford Site or NTS) or, if this is not practical and an exemption is granted, to a commercial facility, consistent with the facility's waste acceptance criteria. DOE will select facilities based on the technical requirements and capabilities of the receiving facility and cost, consistent with applicable requirements, such as the DOE Radioactive Waste Management Order, DOE O 435.1, and the corresponding Manual, DOE M 435.1-1, and Guide DOE G 435.1-1.

DOE will continue onsite treatment of SRS MLLW streams (about 20%) for which SRS has the capacity, unless an exemption is granted (e.g., the Effluent Treatment Facility or Consolidated Incineration Facility). Certain MLLW streams (about 80%) for which onsite treatment capacity does not exist or is not cost effective will be treated at two of DOE's four regional treatment facilities (i.e., Hanford Site or ORR), or, if an exemption is granted, at a commercial facility (e.g., MLLW High Efficiency Particulate Air Filters to Materials & Energy Corp., a commercial facility in Oak Ridge, Tennessee). All treated MLLW and residuals (100%) from onsite or offsite treatment will be disposed of at a DOE regional disposal facility (i.e., Hanford Site or NTS), consistent with the disposal facility's waste acceptance criteria, or, if an exemption is granted, at a commercial facility (e.g., solidified incinerator ash at Envirocare in Clive, Utah). DOE will use DOE facilities, whenever practical. When this is not practical, DOE will select other facilities based on the technical requirements and capabilities of the receiving facility and cost, consistent with applicable requirements, such as DOE Radioactive Waste Management Order, DOE O 435.1, DOE M 435.1-1, and DOE G 435.1-1.

Reasons for Decision

This decision modifies the October 1995 and May 1997 RODs for the SRS WMEIS to be consistent with DOE's programmatic decisions concerning LLW and MLLW treatment and disposal and to reflect regulatory and budgetary conditions at SRS. Some onsite treatment facilities for MLLW (e.g., the Mixed Waste Treatment Facility) and disposal facilities for LLW and MLLW (e.g., additional LLW disposal vaults and MLLW disposal vaults) that would have been implemented under previous decisions do not exist or are no longer planned at SRS. The reasons for the cancellation of additional onsite facilities are: The inability of SRS to meet current South Carolina Department of Health and Environmental Control Resource Conservation and Recovery Act waste disposal facility requirements, funding reductions for treatment and disposal facilities at SRS, and the apparent adequacy of existing or planned treatment and disposal capacity at other DOE and commercial facilities.

This decision is consistent with agreements between DOE and the State of South Carolina concerning MLLW management under the FFCAct of 1992.

Environmental Impacts

Potential impacts of this decision on SRS land use and ecological resources are expected to be less than the impacts previously analyzed in the SRS WMEIS, due to canceling construction and operation of additional SRS treatment and disposal facilities, and, instead, using existing or planned offsite commercial or DOE treatment and disposal facilities. Before implementing this decision at receiving sites other than SRS, DOE will determine the need for additional site-specific or project level NEPA reviews.

Mitigation

DOE believes that all practicable means to avoid and minimize environmental harm from the previously selected “Moderate Treatment Configuration Alternative” have already been adopted.

Conclusion

DOE has reviewed the information and analyses in the SRS WMEIS and WM PEIS (Chapters 6 and 7), and determined that this amended decision is adequately supported by these EISs. In making this amended decision, DOE considered beneficial and adverse environmental impacts, costs, and regulatory commitments.

Issued in Washington, DC on this 4th day of June, 2001.
Carolyn L. Huntoon,
Acting Assistant Secretary for Environmental Management.

[FR Doc. 01-16264 Filed 6-27-01; 8:45 am]

BILLING CODE 6450-01-P